SECURITIES AND EXCHANGE COMMISSION

Agency Meeting

Federal Register Citation of Previous Announcement: [65 FR 47251, September 11, 2001].

Status: Closed meeting.

Place: 450 Fifth Street, NW, Washington, DC.

Date Previously Announced: [September 6, 2001].

Change in the Meeting: Additional items.

The following item was added to the closed meeting scheduled for Friday, September 14, 2001: regulatory matters regarding financial institutions.

Commissioner Unger, as duty officer, determined that Commission business required the above change and that no earlier notice thereof was possible.

At times, changes in Commission priorities require alterations in the scheduling of meeting items. For further information and to ascertain what, if any, matters have been added, deleted or postponed, please contact: The Office of the Secretary (202) 942-7070.

Dated: September 14, 2001.
Jonathan G. Katz,
Secretary.

[FR Doc. 01-23523 Filed 9-17-01; 4:46 pm]

BILLING CODE 8010-01-M